FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012008-007.

Title: The 360 Quality Association Agreement.

Parties: Ambassador Services, Inc.; Cool Carriers, AB; Diamond State Port Corporation; Gloucester Terminals LLC; and Seatrade Group NV.

Filing Party: Wayne R. Rohde, Esq.; Cozen O'Connor; 1627 I Street NW.; Suite 1100; Washington, DC 20006-4007.

Synopsis: The amendment changes the name of NYKCool AB to Cool Carriers, AB.

Agreement No.: 012202-001.

Title: The G6/ELJSA Slot Exchange Agreement.

Parties: American President Lines, Ltd. and APL Co. Pte, Ltd. (Operating as one Party); Hapag-Lloyd AG; Hyundai Merchant Marine Co., Ltd.; Mitsui O.S.K. Lines, Ltd.; Nippon Yusen Kaisha; Orient Overseas Container Line, Limited; and Evergreen Line Joint Service Agreement.

Filing Party: David F. Smith, Esq.; Cozen O'Connor; 1627 I Street NW., Suite 1100; Washington, DC 20006.

Synopsis: The amendment changes the corporate addresses of American President Lines, Ltd. and APL Co. PTE Ltd. (collectively APL) and Hyundai Merchant Marine Co., Ltd.

Agreement No.: 012262-001.

Title: The G6/Hanjin Vessel Sharing Agreement.

Parties: American President Lines, Ltd. and APL Co. Pte, Ltd. (operating as one party); Hapag-Lloyd AG; Hyundai Merchant Marine Co., Ltd.; Mitsui O.S.K. Lines, Ltd.; Nippon Yusen Kaisha; Orient Overseas Container Line, Limited; and Hanjin Shipping Co., Ltd.

Filing Party: David F. Smith, Esq.; Cozen O'Connor; 1627 I Street NW., Suite 1100; Washington, DC 20006.

Synopsis: The amendment changes the corporate addresses of American President Lines, Ltd. and APL Co. PTE Ltd. (collectively APL) and Hyundai Merchant Marine Co. Ltd.

Agreement No.: 012313.

Title: NYK/EUKOR North America/Carib and Central America Space Charter Agreement.

Parties: Nippon Yusen Kaisha and EUKOR Car Carrier Inc.

Filing Party: Robert Shababb, Corporate Counsel, NYK Line (North America) Inc.; 300 Lighting Way, 5th Floor; Secaucus, NJ 07094.

Synopsis: The agreement authorizes NYK and EUKOR to charter space to each other in the trade from North America to all Caribbean Sea countries and ports in Central and South America.

By Order of the Federal Maritime Commission.
Dated: January 9, 2015.
Karen V. Gregory,
Secretary.

[FR Doc. 2015-00457 Filed 1-14-15; 8:45 am]

BILLING CODE 6730-01-P